FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201405.

Agreement Name: HLAG/ONE IN2 Slot Charter Agreement.

Parties: Hapag-Lloyd AG; and Ocean Network Express Pte., Ltd.

Filing Party: Joshua Stein; Cozen O'Connor.

Synopsis: The Agreement authorizes Hapag-Lloyd AG to charter space to Ocean Network Express Pte. Ltd. in the trades between the U.S. East Coast on the one hand, and India, the United Arab Emirates, Saudi Arabia, Egypt, Morocco and Spain, on the other hand. The parties have requested expedited review.

Proposed Effective Date: 8/13/2023.

Location: https://www2.fmc.gov/FMC.Agreements.Web/Public/AgreementHistory/83502.

Dated: June 30, 2023.
JoAnne O'Bryant,
Program Analyst.

[FR Doc. 2023-14264 Filed 7-5-23; 8:45 am]

BILLING CODE 6730-02-P